DEPARTMENT OF TRANSPORTATION

Federal Aviation Administration

14 CFR Part 71

[Docket No. FAA-2012-0287; Airspace Docket No. 11-AWP-21]

RIN 2120-AA66

Proposed Amendment of Air Traffic Service Routes; Southwestern United States

AGENCY: Federal Aviation Administration (FAA), DOT.

ACTION: Notice of proposed rulemaking (NPRM); correction.

SUMMARY: This action corrects the description of VOR Federal airway V-16 to include a previous amendment to the description that was inadvertently omitted in the NPRM.

DATES: Comments must be received on or before June 7, 2012.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION: On April 23, 2012, Docket No. FAA-2012-0287; Airspace Docket No. 11-AWP-21 was published in the Federal Register proposing to amend various Air Traffic Service Routes in the Southwestern United States (77 FR 24156). The description of V-16 in the NPRM did not reflect a previous amendment of the route that was published on September 19, 2011 (76 FR 57902). The incorrect part of the V-16 description in the NPRM reads “* * * Kennedy; Dear Park, NY; Calverton, NY; Norwich, CT * * *” The correct version is “* * * Kennedy; INT Kennedy 040° and Calverton, NY 261° radials; Calverton; Norwich, CT * * *” The corrected airspace description is rewritten for clarity.

Correction to Proposed Rule

Accordingly, pursuant to the authority delegated to me, the NPRM for the proposed amendment of Air Traffic Service Routes; Southwestern United States as published in the Federal Register of April 23, 2010 (77 FR 24156) FR Doc. 2012-9675, is corrected as follows:

By removing the description of V-16 starting at line 16, column 3, on page 24157, and inserting the following:

V-16 [Amended]

From Los Angeles, CA; Paradise, CA; Palm Springs, CA; Blythe, CA; Buckeye, AZ; Phoenix, AZ; INT Phoenix 155° and Stanfield, AZ, 105° radials; Tucson, AZ; San Simon, AZ; INT San Simon 119°(T)/106°(M) and Columbus, NM, 277°(T)/265°(M) radials; Columbus; El Paso, TX; Salt Flat, TX; Wink, TX; INT Wink 066° and Big Spring, TX, 260° radials; Big Spring; Abilene, TX; Bowie, TX; Bonham, TX; Paris, TX; Texarkana, AR; Pine Bluff, AR; Marvell, AR; Holly Springs, MS; Jacks Creek, TN; Shelbyville, TN; Hinch Mountain, TN; Volunteer, TN; Holston Mountain, TN; Pulaski, VA; Roanoke, VA; Lynchburg, VA; Flat Rock, VA; Richmond, VA; INT Richmond 039° and Patuxent, MD, 228° radials; Patuxent; Smyrna, DE; Cedar Lake, NJ; Coyle, NJ; INT Coyle 036° and Kennedy, NY, 209° radials; Kennedy; INT Kennedy 040° and Calverton, NY 261° radials; Calverton; Norwich, CT; Boston, MA. The airspace within Mexico and the airspace below 2,000 feet MSL outside the United States is excluded. The airspace within Restricted Areas R-5002A, R-5002C, and R-5002D is excluded during their times of use. The airspace within Restricted Areas R-4005 and R-4006 is excluded.

Issued in Washington, DC, on May 16, 2012.
Ellen Crum,
Acting Manager, Airspace, Regulations and ATC Procedures Group.

[FR Doc. 2012-12571 Filed 5-22-12; 8:45 am]

BILLING CODE 4910-13-P